DEPARTMENT OF TRANSPORTATION

Federal Aviation Administration

14 CFR Part 39

[Docket No. 99-NE-31-AD; Amendment 39-13445; AD 2004-03-01]

RIN 2120-AA64

Airworthiness Directives; Air Cruisers Company Emergency Evacuation Slide/Raft System; Correction

AGENCY: Federal Aviation Administration, DOT.

ACTION: Final rule; correction.

SUMMARY: This document makes a correction to Airworthiness Directive (AD) 2004-03-01 applicable to certain Air Cruisers Company Emergency Evacuation Slide/Raft System that was published in the Federal Register on February 5, 2004 (69 FR 5459). The AD number, referenced in paragraph (i), in the Credit for Previous Repacking section, is incorrect. This document corrects that AD number. In all other respects, the original document remains the same.

EFFECTIVE DATE: Effective February 5, 2004.

FOR FURTHER INFORMATION CONTACT: Leung Lee, Aerospace Engineer, New York Aircraft Certification Office, FAA, Engine and Propeller Directorate, 1600 Stewart Avenue, Suite 410, Westbury, NY 11590; telephone (516) 228-7309; fax (516) 794-5531.

SUPPLEMENTARY INFORMATION: A final rule AD, FR Doc 04-2051, applicable to certain Air Cruisers Company Emergency Evacuation Slide/Raft System, was published in the Federal Register on February 5, 2004 (69 FR 5459). The following correction is needed:

PART 39—[AMENDED]

§ 39.13 [Corrected]

On page 5461, in the second column, in the Credit for Previous Repacking section, in paragraph (i), in the fourth line, “2003-11-03 “ is corrected to read “2003-03-11”.

Issued in Burlington, MA, on March 2, 2004.
Jay J. Pardee,
Manager, Engine and Propeller Directorate, Aircraft Certification Service.

[FR Doc. 04-5129 Filed 3-8-04; 8:45 am]

BILLING CODE 4910-13-P